Proclamation 9432 of April 28, 2016

National Foster Care Month, 2016

By the President of the United States of America

A Proclamation

The success of our country tomorrow depends on the well-being of our children today. As a Nation, we have a duty to empower each child so they have the same sense of promise and possibility as any other young person no matter who they are, where they come from, or what their circumstances are. Foster youth deserve the security and strong support structures they need to achieve their dreams. During National Foster Care Month, we lift up our Nation's foster children, celebrate the selfless men and women who embrace children in the foster care system, and we recommit to helping more children find permanency so they can feel stable, grounded, and free to fulfill their limitless potential.

With open hearts, families and professionals across America work each day to give foster youth the resources, warmth, and care they need. Over 400,000 children remain in the foster care system, and tens of thousands of youth age out of foster care before they find their forever family. Only half of children in foster care complete high school by age 18, and less than 5 percent graduate college. Young people who age out of foster care without a permanent home are often at higher risk of entering the criminal justice system, and they can face greater challenges to completing an education, obtaining high-quality health care, and securing gainful employment. We also know kids are better off when raised by loving families, not institutions. These difficult outcomes are often exaggerated further when children are placed in group homes.

I am committed to preventing youth from falling into these situations. I have proposed allowing child welfare agencies to use Federal funds to provide critical services and shelter to foster youth who have aged out of the system until they are 23. My Administration is also working to reduce abuse and neglect by focusing resources on strengthening families so children stay out of foster care in the first place. Children living in foster care are more likely than other children to be overprescribed medication for social-emotional and mental health disorders. That is why my Administration is encouraging greater use of evidence-based screening, assessment, and treatment of trauma and mental health disorders for kids in foster care. And because every child deserves access to quality, affordable health insurance, the Affordable Care Act requires each State to extend Medicaid coverage to foster children who have aged out of the foster care system until the age of 26.

Children grow to become their best selves when they are surrounded by supportive families. Caretakers support foster youth and help them see a future of greater promise and hope. Last summer, the Supreme Court ruled that the Constitution guarantees marriage equality, giving more kids in foster care the opportunity to be part of a loving family. My Administration will continue fighting to ensure eligible and qualified caretakers have the chance to become an adoptive or foster parent regardless of race, religion, gender identity, or sexual orientation. The commitment and dependability of a family can provide foster youth with the confidence to write and control their own destiny. Family is the bedrock of the American story, and we must do everything we can to support all young people so they can be free from harm, healthy, and ready to chart the course of our Nation's unwritten history.

When we create environments for all young people to grow and flourish and safely live as who they are regardless of race, background, religion, sexual orientation or gender identity our country is stronger. This month, and every month, let us pay tribute to the children in foster care and the dedicated parents and professionals who tirelessly work to shape their lives. And as a country, let us embrace the spirit that every child matters and continue working to provide all of our daughters and sons with an equal chance to lead productive and fulfilling lives, limited by nothing but the power of their imaginations and the scope of their dreams.

NOW, THEREFORE, I, BARACK OBAMA, President of the United States of America, by virtue of the authority vested in me by the Constitution and the laws of the United States, do hereby proclaim May 2016 as National Foster Care Month. I call upon all Americans to observe this month by taking time to help youth in foster care and recognizing the commitment of all who touch their lives.

IN WITNESS WHEREOF, I have hereunto set my hand this twenty-eighth day of April, in the year of our Lord two thousand sixteen, and of the Independence of the United States of America the two hundred and fortieth.

[FR Doc. 2016-10505

Filed 5-2-16; 11:15 am]

Billing code 3295-F6-P